DEPARTMENT OF THE INTERIOR

Bureau of Land Management

[LLNM980300 L07772100.XX0000 212L1109AF]

Notice of Public Meeting, Southern New Mexico Resource Advisory Council, New Mexico

AGENCY: Bureau of Land Management, Interior.

ACTION: Notice of public meeting.

SUMMARY: In accordance with the Federal Land Policy and Management Act of 1976 and the Federal Advisory Committee Act of 1972, the U.S. Department of the Interior, Bureau of Land Management's (BLM) Southern New Mexico Resource Advisory Council (RAC) will meet as indicated below.

DATES: The RAC will meet on August 5, 2021, from 9:00 a.m.-3:45 p.m. MST.

ADDRESSES: The meeting will be open to the public and held via the Zoom Webinar Platform. To participate, individuals must register virtually at: https://blm.zoomgov.com/webinar/register/WN_3JGATj0pQYOujXLG6RR51Q. Individuals wishing to submit written comments for consideration by the RAC should send their comments to Glen Garnand at the BLM's Pecos District Office, 2909 West 2nd Street, Roswell, New Mexico 88201, or to ggarnand@blm.gov.

FOR FURTHER INFORMATION, CONTACT: Glen Garnand, Pecos District Office, Bureau of Land Management, 2909 West 2nd Street, Roswell, New Mexico 88201; 575-627-0209; ggarnand@blm.gov. Persons who use a telecommunications device for the deaf (TDD) may call the Federal Relay Service (FRS) at 1-800-877-8229 to contact the above individual during normal business hours. The FRS is available 24 hours a day, 7 days a week, to leave a message or question with the above individual. You will receive a reply during normal business hours.

SUPPLEMENTARY INFORMATION: The 12-member Southern New Mexico RAC provides recommendations to the Secretary of the Interior, through the BLM, on a variety of planning and management issues associated with public land management in the RAC's area of jurisdiction.

Planned agenda items include updates on new Secretary's Orders; Land and Water Conservation Fund projects for each field office; grazing allotment permit renewal regulations; and the Organ Mountain-Desert Peaks National Monument.

This meeting is open to the public, and the BLM welcomes comments from all interested parties. There will be a half-hour public comment period starting at 2:30 p.m. MST for any interested members of the public who wish to address the RAC. Depending on the number of persons wishing to speak and time available, the time for individual comments may be limited. Individuals may also submit written comments. Written comments filed in advance of the meeting will be presented to RAC members for consideration prior to the meeting. Please include “RAC Comment” in your submission.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 43 CFR 1784.4-2

William Childress,
BLM Las Cruces District Manager.

[FR Doc. 2021-13089 Filed 6-21-21; 8:45 am]

BILLING CODE 4310-FB-P